DEPARTMENT OF LABOR

Employment and Training Administration

[NAFTA-4307]

Lightnin SPX Corp., Wytheville, VA; Notice of Termination of Investigation

Pursuant to Title V of the North American Free Trade Agreement Implementation Act (Pub. L. 103-182) concerning transitional adjustment assistance, hereinafter called NAFTA-TAA and in accordance with section 250(a), subchapter D, chapter 2, Title II, of the Trade Act of 1974, as amended (19 U.S.C. 2331), an investigation was initiated on November 15, 2000, in response to a petition filed on behalf of workers at Lightnin, SPX Corporation, Wytheville, Virginia. Workers produce industrial mixing equipment.

The petitioner has stated that they no longer wish to pursue the petition for the Wytheville facility and wish to withdraw the petition. Consequently, further investigation in this case would serve no purpose, and the investigation has been terminated.

Signed in Washington, DC this 12th day of January, 2001.
Linda G. Poole,
Certifying Officer, Division of Trade Adjustment Assistance.

[FR Doc. 01-3306 Filed 2-7-01; 8:45 am]

BILLING CODE 4510-30-M